DEPARTMENT OF THE INTERIOR

Fish and Wildlife Service

[FWS-R8-ES-2024-0126; FXES11140800000-245-FF08EVEN00]

Endangered and Threatened Wildlife and Plants; Two Draft Habitat Conservation Plans and Associated Draft Categorical Exclusions for School Improvement Projects in San Benito and Monterey Counties, CA

AGENCY: Fish and Wildlife Service, Interior.

ACTION: Notice of availability; request for comments.

SUMMARY: We, the U.S. Fish and Wildlife Service (Service), have received two applications for incidental take permits (ITPs) for the federally threatened Central California Distinct Population Segment (DPS) of the California tiger salamander and California red-legged frog under the Endangered Species Act of 1973, as amended. Each of the two applicants submitted a permit application which, if issued, would authorize take of the California tiger salamander and California red-legged frog incidental to activities associated with the development and improvement of school facilities in the cities of San Juan Bautista and Salinas in San Benito and Monterey Counties, respectively, in California. As part of the application for an ITP, each applicant submitted a draft habitat conservation plan for their respective project. For each project, the Service prepared a draft screening form in accordance with the National Environmental Policy Act (NEPA) to evaluate the potential effects to the natural and human environment resulting from issuing an ITP to each applicant for their project. We invite the public and local, State, Tribal, and Federal agencies to comment on the draft screening forms and on the Service's preliminary determination that the proposed permitting actions may be eligible for categorical exclusions pursuant to the Council on Environmental Quality's NEPA regulations, the Department of the Interior's (DOI) NEPA regulations, and the DOI Departmental Manual.

DATES: Written comments should be received on or before September 9, 2024.

ADDRESSES:

Obtaining Documents: The documents this notice announces, as well as any comments and other materials that we receive, will be available for public inspection online in Docket No. FWS-R8-ES-2024-0126 at https://www.regulations.gov.

Submitting Written Comments: Please send us your written comments using one of the following methods:

• Online: https://www.regulations.gov. Follow the instructions for submitting comments on Docket No. FWS-R8-ES-2024-0126.

• U.S. Mail: Public Comments Processing; Attn: FWS-R8-ES-2024-0126; U.S. Fish and Wildlife Service; MS: PRB/3W; 5275 Leesburg Pike; Falls Church, VA 22041-3803.

FOR FURTHER INFORMATION CONTACT: Karen Sinclair, Fish and Wildlife Biologist, by email at fw8venturaitp@fws.gov or via phone at (805) 644-1766. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received two applications for incidental take permits (ITPs) under the Endangered Species Act of 1973, as amended (ESA; 16 U.S.C. 1531 et seq.). The applicants have developed draft habitat conservation plans (HCPs) for the respective projects that include measures to minimize and mitigate impacts to the federally threatened Central California DPS of the California tiger salamander (Ambystoma californiense) and California red-legged frog (Rana draytonii). Each of the permits, if granted, would authorize take of the California tiger salamander and California red-legged frog incidental to otherwise lawful activities associated with the development and improvement of school facilities in the cities of San Juan Bautista and Salinas in San Benito and Monterey Counties, respectively, in California. We invite public comment on the applications, which include the applicants' HCPs, and on the Service's preliminary determination that both proposed ITPs qualify as low effect, and may qualify for categorical exclusions pursuant to the Council on Environmental Quality's National Environmental Policy Act (NEPA) regulations (40 CFR 1501.4), the Department of the Interior's (DOI) NEPA regulations (43 CFR 46), and the DOI's Departmental Manual (516 DM 8.5(C)(2)). To make these preliminary determinations, we prepared draft low-effect screening forms, which are also available for public review.

Background

The Service listed the Central California DPS of the California tiger salamander as threatened on August 4, 2004 (69 FR 47212), and listed the California red-legged frog as threatened on May 23, 1996 (61 FR 25813). Section 9 of the ESA prohibits “take” of fish and wildlife species listed as endangered (16 U.S.C. 1538), where take is defined to include the following activities: “to harass, harm, pursue, hunt, shoot, wound, kill, trap, capture, or collect, or to attempt to engage in any such conduct” (16 U.S.C. 1532). The take prohibitions of section 9 are extended to species listed as threatened at the discretion of the Secretary of the Department of the Interior; in this case, they were extended to both species; however, this was done with exceptions for the California tiger salamander.

Under section 10(a)(1)(B) of the ESA (16 U.S.C. 1539(a)(1)(B)), we may issue permits to authorize take of listed fish and wildlife species that is incidental to, and not the purpose of, carrying out an otherwise lawful activity. Regulations governing incidental take permits for endangered and threatened species are in the Code of Federal Regulations (CFR) at 50 CFR 17.22 and 17.32, respectively. Issuance of an ITP also must not jeopardize the existence of federally listed fish, wildlife, or plant species, pursuant to section 7 of the ESA and 50 CFR 402.02. The permittee would receive assurances under our “No Surprises” regulations (50 CFR 17.22(b)(5) and 17.32(b)(5)).

Proposed Activities

Each applicant has applied for a permit for incidental take of the California tiger salamander and California red-legged frog. The take would occur in association with development and improvement activities of school facilities.

The respective HCPs include minimization measures for the California tiger salamander and California red-legged frog and mitigation for unavoidable take and loss of suitable habitat for these species. As mitigation for take and loss of suitable habitat, the applicants propose mitigation that will support the recovery goals of the species such as restoration and protection of habitat through the purchase of credits at a conservation bank.

Our Preliminary Determination

The Service has made a preliminary determination that the applicants' proposed projects, and proposed mitigation and minimization measures, would individually and cumulatively have a minor effect on the species and the human environment. Therefore, we have preliminarily determined that the proposed ESA section 10(a)(1)(B) permits would be low-effect ITPs that individually or cumulatively would have a minor effect on the species and may qualify for application of categorical exclusions pursuant to the Council on Environmental Quality's NEPA regulations, DOI's NEPA regulations, and the DOI Departmental Manual. A low-effect ITP is one that would result in (1) minor or nonsignificant effects on species covered in the HCP; (2) nonsignificant effects on the human environment; and (3) impacts that, when added together with the impacts of other past, present, and reasonably foreseeable actions, would not result in significant cumulative effects to the human environment.

Next Steps

The Service will evaluate the applications and the comments received to determine whether to issue the requested ITPs. We will also conduct an intra-Service consultation pursuant to section 7 of the ESA to evaluate the effects of the proposed covered activities on the Central California DPS of the California tiger salamander and California red-legged frog. After considering the preceding and other matters, we will determine whether the permit issuance criteria of section 10(a)(1)(B) of the ESA have been met. If met, the Service will issue one or both ITPs.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10(c) of the Endangered Species Act (16 U.S.C. 1531 et seq.) and its implementing regulations (50 CFR 17.32) and the National Environmental Policy Act (42 U.S.C. 4321 et seq.) and its implementing regulations (40 CFR 1500-1508 and 43 CFR 46).

Stephen P. Henry,
Field Supervisor, Ventura Fish and Wildlife Office, Ventura, California.

[FR Doc. 2024-17577 Filed 8-7-24; 8:45 am]

BILLING CODE 4333-15-P